DEPARTMENT OF TRANSPORTATION

Federal Transit Administration

Environmental Impact Statement for Transportation Improvements Within the West Corridor, Charlotte, NC

AGENCY: Federal Transit Administration, DOT.

ACTION: Notice of Intent to prepare an Environmental Impact Statement (EIS).

SUMMARY: The Federal Transit Administration (FTA), the Federal lead agency, and the City of Charlotte, the local lead agency, intend to prepare an Environmental Impact Statement (EIS) in accordance with the National Environmental Policy Act (NEPA) for transportation improvements within the proposed West Corridor in Mecklenburg County, North Carolina. The study corridor of approximately 12 miles extends from Uptown Charlotte (the center city) in Mecklenburg County to the Catawba River that forms the border between Mecklenburg and Gaston Counties. There is a possibility that the corridor may be extended an additional 16 miles to the West, to the City of Gastonia in Gaston County.

The Charlotte-Mecklenburg region is developing an integrated land use and supportive transit plan. Building on the 2025 Integrated Transit/ Land Use Plan for Charlotte-Mecklenburg, four corridor Major Investment Studies (MISs) are being prepared for the North, Northeast (University), Southeast (Independence), and West (Airport) corridors. A previously-prepared MIS for the South Corridor resulted in a light rail transit project for that corridor.

The EIS will be prepared following completion of a MIS for the West Corridor. The West Corridor MIS will evaluate the land use, mobility, and environmental benefits, costs and impacts of various land use and transportation alternatives. The MIS will evaluate the following alternatives: a No-Build alternative; a Transportation System Management alternative consisting of low to medium cost improvements to the facilities and operation of local bus services (Charlotte Area Transit System) in addition to currently planned transit improvements in the study corridor; and multiple “Build” alternatives including bus rapid transit, various types of rail transit facilities, and combinations of these types of transit services, as well as alternative land use scenarios. (See Section III. Alternatives for additional information).

The sequence of events for the planning and development for this project include the following major milestones:

Scoping Process—early opportunity for public input to the study scope, including alternatives and issues to be evaluated.

Major Investment Study (MIS)—evaluation of proposed improvement alternatives, early consideration of environmental factors, concluding with the selection of a Locally Preferred Alternative (LPA).

Preliminary Engineering/Environmental Impact Statement (PE/EIS)—detailed definition of the LPA, evaluation of design options, assessment of potential impacts, development of mitigation measures, preparation and circulation of the Draft EIS, public meetings, and completion of a Final EIS.

Scoping will be accomplished through correspondence with interested persons, organizations, and federal, state, and local agencies, and through public and agency meetings.

DATES: Comment Due Date: Written comments on the scope of alternatives and impacts to be considered should be sent to Catondra Noye, Project Manager, Charlotte Area Transit System (CATS), by October 16, 2000. See ADDRESSES below. Scoping Meetings:

Public scoping meetings will be held on:

Monday, September 18, 2000, 6:30 pm to 9:00 pm; Adams Service Center, 4150 Wilkinson Blvd., Charlotte, NC

Wednesday, September 27, 2000, 6:30 pm—9:00 pm; Charlotte-Mecklenburg Government Center, 600 E. Fourth St, Charlotte, NC 28202 (Joint meeting with all corridors—Center City focus)

Scoping material will be available at the meeting or in advance of the meeting by contacting Catondra Noye at CATS.

An agency scoping meeting will be held on Wednesday, September 27, 2000, 10 am to 1 pm at the Charlotte-Mecklenburg Government Center. See ADDRESSES below.

Scoping is being conducted for three other related corridors—Northeast (University), Southeast (Independence), and North—in the Charlotte-Mecklenburg region at approximately the same time with separate public scoping meetings, as published in separate Notices of Intent. The agency scoping meeting for the West Corridor will be held in conjunction with the three other corridors to address inter-related issues and coordination.

ADDRESSES: Written comments on the scope of alternatives and impacts to be studied should be sent to Catondra Noye, CATS Project Manager, City of Charlotte, 600 East Fourth Street, Charlotte, NC 28202-2858. Public scoping meetings will be held at the following locations: Adams Service Center, 4150 Wilkinson Boulevard, Charlotte, NC and the Charlotte-Mecklenburg Government Center, 600 East Fourth St., Charlotte, NC 28202. See DATES above.

FOR FURTHER INFORMATION CONTACT: Ms. Myra Immings, Federal Transit Administration, Region IV, 61 Forsyth Street SW, Suite 17T50, Atlanta, GA 30303; Telephone (404) 562-3508.

SUPPLEMENTARY INFORMATION:

I. Scoping

The FTA and the City of Charlotte invite interested individuals, organizations, and federal, state and local agencies to participate in defining the alternative transit modes and alignments to be evaluated and identifying any significant social, economic, or environmental issues related to the alternatives. Primary issues to be considered include the changes in land uses and future development as they relate to alternative transit systems. Specific suggestions related to additional alternatives to be examined and issues to be addressed are welcome and will be considered in the final scope of the project. Scoping comments may be made at the scoping meetings or in writing no later than October 16, 2000. (see DATES and ADDRESSES above). During scoping, comments should focus on identifying specific social, economic, or environmental impacts to be evaluated, and suggesting alternatives that are less costly or less environmentally damaging which achieve similar transit objectives. Comments should focus on the issues and alternatives for analysis, and not on a preference for a particular alternative.

An information packet, referred to as the Scoping Booklet, will be circulated to all Federal, State, and local agencies with jurisdiction in the project area. Scoping materials will be available at the meeting or in advance of the meeting by contacting the Charlotte Area Transit System as indicated above. If you wish to be placed on the mailing list to receive further information as the project continues contact Catondra Noye at the Charlotte Area Transit System (see ADDRESSES above).

II. Description of Corridor and Project Need

The West Corridor project is a direct outgrowth of prior transit planning activities for the region. The 2025 Integrated Transit/Land Use Plan for Charlotte-Mecklenburg, developed in 1998, identified key centers of economic activity and the five major transportation corridors in the Charlotte region. The 2025 Plan calls for concentrating development along these corridors and proposes a rapid transit system as a means to support land use initiatives to attain this vision in order to sustain economic growth and protect citizens' quality of life. The 2025 Plan identified the West Corridor as a priority transit corridor based on current and future mobility needs, cost feasibility and potential ridership.

The proposed project corridor extends approximately 12 miles from Uptown Charlotte (the center city) in Mecklenburg County to the Catawba River that forms the boundary between Mecklenburg and Gaston Counties. The corridor is primarily served by I-85, Wilkinson Boulevard (US 29/74) and West Boulevard (NC 160) and includes the Norfolk Southern rail line. From the West, the corridor passes through less developed portions of Mecklenburg County, with some newer residential located near the future I-485 freeway. Between I-485 and US 521, the corridor consists of newer residential development north of I-85, while the airport and industrial development is the primary land use south of I-85. East of US 521 the corridor consists of older residential areas with mostly low income and minority residents. Outside of the airport area, the corridor does not contain a great deal of office or other employment. The corridor also contains little retail development, with only some older shopping centers along US 74/29 and NC 27, some of which are partially or completely vacant.

Interstate 85 is currently a divided four-lane to six-lane highway within the study area and has an annual average daily traffic volume of as many as 90,000 vehicles per day in 1997. This facility experiences serious congestion and delays particularly during peak travel times and is considered to be a major transportation problem facing this rapidly growing region. Based upon current trends, traffic on I-85 will grow to over 216,000 vehicles by the year 2015. Currently, I-85 has a level of service of C or D and there are no planned or programmed improvements for I-85 within the West Corridor. Therefore, a substantial portion of this facility will still experience severe congestion by the year 2015.

Future growth projections for the region estimate a population increase of 57 percent and a 47 percent increase in employment by the year 2025. Current and anticipated growth in the Airport area will further increase demand for transportation services into, through and within the corridor.

The Charlotte Metropolitan Area has exceeded the Environmental Protection Agency's 1-hour and 8-hour standard for ozone each of the past three years. These violations will likely result in the County being designated as a non-attainment area for ozone, which will be officially stated by US EPA early next year. The primary contributor of air pollutants in the region is mobile emissions.

III. Alternatives

The alternatives proposed for evaluation include: (1) No-Build, which involves no change to transportation service or facilities in the corridor beyond already committed projects; (2) a Transportation System Management alternative, which consists of low to medium cost improvements to the operations of the local bus service, the Charlotte Area Transit System, in addition to the currently planned transit improvements in the corridor; and (3) multiple “Build” alternatives including bus rapid transit (BRT) facilities along the I-85/Wilkinson Blvd. corridor and light rail transit (LRT) generally following the existing Norfolk Southern railroad right-of-way and/or major arterials within the study corridor. The “Build” alternatives may include alternative land use scenarios to evaluate the potential for focusing development around transit stations. Additional reasonable alternatives suggested through the scoping process may also be considered.

IV. Probable Effects

FTA and the City of Charlotte will identify potentially significant social, economic, and environmental impacts associated with the alternatives considered in the MIS. The primary environmental issues to be considered include potential impacts to air quality, noise and vibration, historical and archaeological resources, visual quality, wetlands, natural areas, rare and endangered species, water quality and potential contamination sites. The primary social and economic impacts proposed for analysis in the MIS include potential changes in land use and future developments, neighborhood and community resource impacts, relocations and displacement impacts, and traffic impacts throughout the project corridor. In addition, both beneficial and adverse impacts to minority and low-income groups will be evaluated. The impacts will be evaluated both for the construction period and for the long-term period of operation. Potential measures to mitigate any significant adverse impacts will be identified.

V. FTA Procedures

In accordance with the federal transportation planning regulations (23 CFR part 450), the MIS will be prepared to include an evaluation of the social, economic, environmental impacts and benefits of the alternatives. The MIS will consider the public and agency comments received. At the conclusion of the MIS, the Metropolitan Transit Commission will select the preferred mode and general alignment alternative for the West Corridor (the LPA). Once the LPA has been included in the Mecklenburg-Union Metropolitan Planning Organization's adopted long-range transportation plan, this project and associated alignment, design, and other options will be further studied in the Preliminary Engineering/Environmental Impact Statement (PE/EIS) phase of project development. Opportunities for agency and public involvement will be provided throughout the MIS and PE/EIS phases.

Dated: September 22, 2000.
Jerry Franklin,
FTA Regional Administrator.

[FR Doc. 00-24863 Filed 9-28-00; 8:45 am]

BILLING CODE 4910-57-P